DEPARTMENT OF DEFENSE

Department of the Navy

Notice of Intent To Prepare an Environmental Impact Statement for the Proposed Naval Base Coronado Coastal Campus and To Announce Public Scoping Meetings

AGENCY: Department of the Navy, DoD.

ACTION: Notice.

SUMMARY: Pursuant to Section 102(2)(c) of the National Environmental Policy Act (NEPA) of 1969, as implemented by the Council on Environmental Quality Regulations, the Department of the Navy (DoN) announces its intent to prepare an Environmental Impact Statement (EIS) to evaluate the potential environmental effects of developing an academic campus on Naval Base Coronado (NBC) to support the current and future operational readiness of personnel with the Naval Special Warfare Command (NSWC). The proposed campus would include a mix of instructional and administrative facilities that would provide for indoor classroom and tactical training instruction, and equipment use, maintenance, and storage. Specific proposed actions within the Coastal Campus proposal are: (1) Evaluation of current land use and available facilities; (2) augmentation by design and construction of new facilities to support logistics, equipment use and maintenance training, classroom and tactical skills instruction, storage, and administration; and, (3) design and build of related site improvements that may include upgraded utilities, fencing, roads, and parking. An EIS is considered the appropriate document for comprehensively analyzing the potential environmental impacts of implementing this proposed action.

Dates and Addresses: DoN is initiating a 30-day public scoping process to identify community interests and specific issues to be addressed in the EIS. This public scoping process starts with the publication of this Notice of Intent (NOI). Two public scoping meetings will be held to receive oral and/or written comments on issues to be addressed in the EIS:

1. Tuesday, July 17, 2012, 6:00 p.m. to 8:00 p.m., Marina Vista Community Center, 1075 Eighth Street, Imperial Beach, California, 91932.

2. Wednesday, July 18, 2012, 6:00 p.m. to 8:00 p.m., Winn Room, Coronado Public Library, 640 Orange Avenue, Coronado, California, 92118.

Additional information concerning meeting times and locations is available on the EIS Web site at www.nbccoastalcampuseis.com. Public scoping meeting dates, times, and locations are also being announced in the local news media, including a local Spanish language newspaper.

Public scoping meetings will include open house sessions, with information stations staffed by the DoN representatives. Comments, both written and oral, will be collected at each of the two public scoping meetings, and written comments may also be made electronically on the project Web site. Spanish translation will be available at the public meetings and the project Web site accommodates Spanish language users.

FOR FURTHER INFORMATION CONTACT: Naval Base Coronado Coastal Campus EIS Project Manager, Attn: Ms. Teresa Bresler, 2730 McKean Street, Bldg 291, San Diego, California 92136.

SUPPLEMENTARY INFORMATION: NSWC is the maritime component of United States Special Operations Command (USSOCOM). Based at NAB Coronado, California, NSWC's mission is to organize, train, man, equip, educate, sustain, maintain combat readiness, and deploy Naval Special Warfare (NSW) forces to carry out special operations missions worldwide. NSW forces operate independently or in conjunction with other special operations forces (SOF), joint forces, allied units, and coalition forces.

NSWC currently conducts administrative and extensive logistics support, equipment use and maintenance training and classroom and tactical skills instruction on the Silver Strand Training Complex-North (SSTC-N) and Silver Strand Training Complex South (SSTC-S), Naval Amphibious Base (NAB) Coronado, Naval Air Station North Island (NASNI), and Naval Outlying Landing Field Imperial Beach (NOLFIB), and Camp Michael Monsoor. Although all of the facilities currently used by NSWC are located on components of NBC, they are over-utilized as well as widely dispersed and not conveniently co-located.

To support Congressionally-mandated growth of NSWC and to meet its current and anticipated mission requirements, the DoN is proposing a Coastal Campus at NBC. The proposed Coastal Campus would support future operational readiness by augmenting available NSWC facilities and reducing fragmentation and space deficiencies, while providing an integrated campus that accommodates primacy and privacy, characteristics of learning required for the development of these skill sets.

The proposed Coastal Campus would augment the current facilities used by NSWC. Specific proposed actions within the Coastal Campus proposal are as follows.

(1) Evaluation of current land use and available facilities.

(2) Augmentation by design and construction of new facilities to support logistics, equipment use and maintenance training, classroom and tactical skills instruction, storage, and administration.

(3) Design and build of related site improvements that may including utilities, fencing, roads, and parking. Due to the functional linkages and the geographic proximity of the components, the proposed Coastal Campus could be sited at SSTC-S, SSTC-N including NAB Coronado, NASNI, or NOLFIB, or a combination of these locations, all within the footprint of NBC.

Purpose and Need for the Action: The Global War on Terror has resulted in Congressionally-mandated personnel growth and increased training and operational readiness requirements for NSWC. However, current NSWC operational support, classroom and tactical skills instruction and administrative facilities, primarily located at NAB Coronado, are inadequate to meet existing and future mission requirements. Moreover, expansion potential at this location is limited. To accommodate NSWC's projected growth requires additional logistics and operational support buildings, classrooms, storage and administrative facilities.

Accordingly, the purpose of the Proposed Action is to provide adequate facilities to support growth of NSWC and to maintain the required levels of operational readiness of special warfare forces, as mandated by Title 10 of U.S.C. Section 167 and Section 5062. The need for the proposed action is the lack of sufficient facilities and space to support NSWC's administrative, logistics, and classroom and tactical instruction functions. The Proposed Action would meet this need by optimizing both facilities and use of space, including synchronistic site improvements, within the existing NBC footprint. This would allow NSWC to support fluctuating organizational structure and mandated mission requirements.

The specific arrangement of built assets, number of buildings and required space would be developed and refined during the NEPA process based on scoping, impacts analysis and results of resource surveys. The DoN proposes 25 projects on NBC over a period of approximately ten years. Each of these projects would be refined as they are studied and evaluated during the Coastal Campus EIS process. The Coastal Campus EIS, when completed, would provide an analytic baseline from which each successive NSWC project may be optimally designed in terms of land use, facilities and infrastructure, and impacts to resources found within the study area.

Alternatives to be Considered: The EIS proposes to address four alternatives, including the No Action Alternative. The alternatives have been designed to study land use patterns, existing infrastructure and resource impacts, as an analytical baseline for receipt of future NSWC Military Construction (MILCON) Program projects. The alternatives would include:

(1) Alternative 1 (SSTC-S Alternative) consists of:

○ Consolidation of the necessary NSWC facilities to one location on the northern half of SSTC-S.

○ Design and construction of logistical support buildings, equipment use and maintenance training facilities, classroom and tactical skills instruction buildings, storage and administrative facilities, utilities, fencing, roads, and parking.

○ Construction of a new entry controlled point providing immediate access to SSTC-S from State Route 75, utilizing sustainable design for all facilities as is practicable.

(2) Alternative 2 (SSTC-S Design II expanded footprint Alternative) would include all of the components of Alternative 1, but the design footprint would increase by expanding the footprint down to the southern fence line of the SSTC-S boundary.

(3) Alternative 3 (Multi-Installation Alternative) would site necessary NSWC facilities at more than one location to include NAB Coronado, NASNI, NOLFIB, and SSTC-S incorporating sustainable design into all facilities as is practicable.

(4) Alternative 4 (No Action Alternative) would maintain existing land uses and training facilities as currently utilized at NBC. No new improvements would occur. Current programmed levels of use (type, tempo, location), including requirements for planned force growth, would continue. As a result, NSWC would continue to have limited space for current and future training support, as well as an inability to cope with Congressionally-mandated expanding training needs. Without consolidation of classroom and support facilities, NSWC personnel would continue to transit between SSTC-N/NAB Coronado, SSTC-S, and NOLFIB. This would continue inefficiency and fragmentation of training and increased expenses, and the environmental consequences would persist (e.g., air emissions and energy consumption of vehicle miles traveled). By limiting facilities and land use support to accommodate NSWC growth and expansion, Alternative 4—No Action Alternative would not achieve the mission of NSWC; however, it will be studied as a baseline of current land and facilities use.

Environmental Issues and Resources to be Examined: Environmental issues that will be addressed in the EIS will include, but are not limited to: Air quality, biological resources (including threatened and endangered species), cultural resources (including historic properties and archaeological resources), geology and soils, hazardous materials and hazardous waste management, health and safety, noise, visual resources, coastal resources, land use, recreation, socioeconomics (including environmental justice and protection of children), transportation and circulation, water resources, and public access. Measures that would avoid or mitigate environmental effects will also be analyzed. Additionally, the DoN will undertake any consultations required by the Endangered Species Act, Coastal Zone Management Act, National Historic Preservation Act, Clean Water Act, and any other applicable law or regulation.

Submitting Comments: The DoN encourages interested persons to submit comments concerning the alternatives proposed for study and environmental impacts to be analyzed. Federal, State and local agencies, Tribal governments, and interested persons are encouraged to provide oral and/or written comments to the DoN to identify specific environmental issues or topics of environmental concern that the DoN should consider when developing the Draft EIS. The DoN will prepare the Draft EIS, incorporating issues identified by the commenting public. All comments received, whether written, oral, on-line, at the public scoping meetings or provided to the DoN during the public scoping period, will receive consideration during Draft EIS preparation.

Written comments on the scope of the EIS should be postmarked no later than July 30, 2012. Comments may be mailed to the EIS Project Manager (Attn: Ms. Teresa Bresler), 2730 McKean Street, Bldg. 291, San Diego, California, 92136. Comments may also be submitted via the EIS Web site at www.nbccoastalcampuseis.com.

Dated: June 19, 2012.
L.R. Almand,
Office of the Judge Advocate General, U.S. Navy, Alternate Federal Register Liaison Officer.

[FR Doc. 2012-15979 Filed 6-28-12; 8:45 am]

BILLING CODE 3810-FF-P